DEPARTMENT OF THE INTERIOR

Fish and Wildlife Service

[FWS-R2-ES-2009-N174; 92220-1113-0000-C6]

Endangered and Threatened Wildlife and Plants; Draft Post-Delisting Monitoring Plan for the Concho Water Snake

AGENCY: Fish and Wildlife Service, Interior.

ACTION: Notice of availability of draft post-delisting monitoring plan.

SUMMARY: We, the U.S. Fish and Wildlife Service (Service), announce the availability of our Post-Delisting Monitoring Plan for the Concho water snake (Nerodia paucimaculata). The draft post-delisting monitoring (PDM) plan describes the methods we propose to monitor the status of the snake and its habitat, in cooperation with the State of Texas and other conservation partners, for a 15-year period if we remove this species from the Federal list of endangered and threatened wildlife under another pending action. The draft PDM plan also provides a strategy for identifying and responding to any future population declines or habitat alterations.

DATES: To ensure consideration, please send your written comments on the draft PDM plan for Concho water snake by October 23, 2009.

ADDRESSES: The draft PDM plan is available for review on the Internet at http://endangered.fws.gov and http://www.fws.gov/southwest/es/AustinTexas/. To request a copy of the draft PDM plan, write to U.S. Fish and Wildlife Service, Austin Ecological Services Field Office, 10711 Burnet Road, Suite 200, Austin, TX 78758; telephone 512-490-0057; facsimile 512-490-0974. Supporting documentation we used in preparing the draft PDM plan is available for public inspection, by appointment, during normal business hours, at the above office. You may submit comments by mail to the above office address.

FOR FURTHER INFORMATION CONTACT: Adam Zerrenner, Field Supervisor, U.S. Fish and Wildlife Service, Austin Ecological Services Field Office (see ADDRESSES). If you use a telecommunications device for the deaf (TDD), call the Federal Information Relay Service (FIRS) at 800/877-8339.

SUPPLEMENTARY INFORMATION:

Background

The Concho water snake is a reptile endemic to central Texas. We listed this species as threatened under the Endangered Species Act of 1973, as amended (Act; 16 U.S.C. 1531 et seq.), effective September 3, 1986, because of threats from habitat modification and destruction (51 FR 31412). On July 8, 2008, we published a proposed rule to remove the Concho water snake from the list of threatened species (73 FR 38956). We based the proposal on our finding that the best available scientific and commercial data, including new information, indicate that the Concho water snake has recovered because threats have been eliminated or reduced to the point that the species no longer meets the definition of threatened or endangered under the Act. We are in the process of making a final determination on whether or not to delist the Concho water snake.

For more background information on the Concho water snake, refer to our 1986 final listing rule published in the Federal Register (51 FR 31412), our 2008 proposed delisting rule published in the Federal Register (73 FR 38956), Werler and Dixon (2000, pp. 209-216), Campbell (2003, pp. 1-4), Forstner et al. (2006, pp. 1-22), Whiting et al. (2008, pp. 438-445), and the 1993 Concho Water Snake Recovery Plan (Service 1993, available online at http://endangered.fws.gov).

Section 4(g)(1) of the Act requires us to implement a system, in cooperation with the States, to effectively monitor the status of each species we remove from the Federal List of Endangered and Threatened Wildlife and Plants due to recovery. The monitoring must occur for at least 5 years. The purpose of post-delisting monitoring (PDM) is to verify that a species we delist due to recovery remains secure from risk of extinction after we remove the protections of the Act.

To fulfill the PDM requirement, we drafted a monitoring plan for the Concho water snake in cooperation with the Texas Parks and Wildlife Department and the Colorado River Municipal Water District. Over a 15-year period, we propose to conduct surveys to measure the presence and abundance of snakes 2 times a year at 18 sample sites across the range of the snake. Biological monitoring frequency will occur in three phases, decreasing over time, resulting in 7 years of surveys over the 15-year PDM period. Evaluation of stream conditions will consist of analysis of hydrologic data collected at eight existing stream gages from across the snake's range. The PDM plan describes specific monitoring triggers where certain outcomes of monitoring will result in specific actions. For example, if snakes are not captured from at least 75 percent of sample sites in any year, sampling effort will be intensified the following year beyond the minimum called for in the PDM plan. The monitoring triggers (both quantitative and qualitative) are based on the snake's distribution, presence, reproduction, and abundance, as well as evaluation of instream flow conditions.

The draft PDM plan includes annual reporting requirements. If PDM results in concern regarding the status of the snake or increasing threats, possible responses may include an extended or intensified monitoring effort, additional research (such as modeling metapopulation dynamics or assessing the status of the fish prey base), enhancement of riverine or shoreline habitats, or an increased effort to improve habitat connectivity by additional translocation of snakes between reaches. If future information collected from the PDM, or any other reliable source, indicates an increased likelihood that the species may become in danger of extinction, we will initiate a status review of the Concho water snake and determine if relisting the species is warranted.

In addition to public review of the draft PDM plan, we concurrently are requesting independent expert peer review from knowledgeable individuals with scientific expertise that includes ecology of water snakes and conservation biology principles. Peer review of the draft PDM plan is in accordance with our policy published on July 1, 1994 (59 FR 34270).

Viewing Documents

Comments and materials we receive from the public and peer reviewers, as well as supporting documentation we used in preparing the draft PDM Plan, will be available for public inspection by appointment, during normal business hours at the Austin Ecological Services Field Office (see ADDRESSES). Once approved, the final PDM plan for the Concho water snake and any future revisions to the PDM plan will be available on our Web page (http://endangered.fws.gov) and the Austin Ecological Services Field Office Web page (http://www.fws.gov/southwest/es/AustinTexas/). We will announce our final decision on whether to delist the snake with a final rule in a future Federal Register publication, and we will also make this final decision available on the above-referenced Web pages.

Request for Public Comments

We intend for our final PDM plan to be as accurate and as effective as possible. Therefore, we request comments or suggestions on the Concho water snake draft PDM plan from the public, concerned governmental agencies, the scientific community, industry, or any other interested party. We will take into consideration substantive comments we receive by the comment due date (see DATES). These comments, and any additional information we receive, may lead us to adopt a final PDM plan that differs from this draft PDM plan. Please note that comments merely stating support or opposition to the action under consideration without providing supporting information, although noted, will not be considered in making a determination.

Before including your address, phone number, e-mail address, or other personal identifying information in your comment, you should be aware that your entire document—including your personal identifying information—may be made publicly available at any time. While you may request at the top of your document that we withhold this information from public review, we cannot guarantee that we will be able to do so.

References Cited

A complete list of all references we cited in this notice is available upon request from the U.S. Fish and Wildlife Service, Austin Ecological Services Field Office (see ADDRESSES).

Authors

The primary authors of this document are staff at the Austin Ecological Services Field Office (see ADDRESSES).

Authority

The authority for this action is the Endangered Species Act of 1973 (16 U.S.C. 1531 et seq.).

Dated: August 7, 2009.
Benjamin N. Tuggle,
Regional Director, Region 2, Fish and Wildlife Service.

[FR Doc. E9-22872 Filed 9-22-09; 8:45 am]

BILLING CODE 4310-55-P